DEPARTMENT OF HEALTH AND HUMAN SERVICES

Centers for Disease Control and Prevention

Request for Nominations of Candidates To Serve on the Advisory Committee on Immunization Practices (ACIP)

The Centers for Disease Control and Prevention (CDC) is soliciting nominations for membership on ACIP. The ACIP consists of 15 experts in fields associated with immunization, who are selected by the Secretary of the U.S. Department of Health and Human Services (HHS) to provide advice and guidance to the Secretary, the Assistant Secretary for Health, and the CDC on the control of vaccine-preventable diseases. The role of the ACIP is to provide advice that will lead to a reduction in the incidence of vaccine preventable diseases in the United States, and an increase in the safe use of vaccines and related biological products. The committee also establishes, reviews, and as appropriate, revises the list of vaccines for administration to children eligible to receive vaccines through the Vaccines for Children (VFC) Program.

Nominations are being sought for individuals who have expertise and qualifications necessary to contribute to the accomplishments of the committee's objectives. Nominees will be selected based on expertise in the field of immunization practices; multi-disciplinary expertise in public health; expertise in the use of vaccines and immunologic agents in both clinical and preventive medicine; knowledge of vaccine development, evaluation, and vaccine delivery; or knowledge about consumer perspectives and/or social and community aspects of immunization programs. Federal employees will not be considered for membership. Members may be invited to serve for four-year terms.

The next cycle of selection of candidates will begin in the fall of 2016, for selection of potential nominees to replace members whose terms will end on June 30, 2017. Selection of members is based on candidates' qualifications to contribute to the accomplishment of ACIP objectives (http://www.cdc.gov/vaccines/acip/index.html). The U.S. Department of Health and Human Services policy stipulates that committee membership be balanced in terms of professional training and background, points of view represented, and the committee's function. Consideration is given to a broad representation of geographic areas within the U.S., with equitable representation of the sexes, ethnic and racial minorities, and persons with disabilities. Nominees must be U.S. citizens, and cannot be full-time employees of the U.S. Government. Candidates should submit the following items:

Current curriculum vitae, including complete contact information (telephone numbers, mailing address, email address)

At least one letter of recommendation from person(s) not employed by HHS *

The deadline for receipt of all application materials (for consideration for term beginning July 1, 2017) is November 4, 2016. All files must be submitted electronically as email attachments to: Ms. Stephanie Thomas, ACIP Secretariat, Email: SThomas5@cdc.gov.

Nominations may be submitted by the candidate him- or herself, or by the person/organization recommending the candidate.

* Candidates may submit letter(s) from current HHS employees if they wish, but at least one letter must be submitted by a person not employed by HHS (e.g., CDC, NIH, FDA, etc.).

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2016-01443 Filed 1-25-16; 8:45 am]

BILLING CODE 4163-18-P